DEPARTMENT OF COMMERCE

International Trade Administration

[A-570-851]

Certain Preserved Mushrooms from the People's Republic of China: Extension of Time Limit for Preliminary Results of Antidumping Duty New Shipper Review

AGENCY: Import Administration, International Trade Administration, Department of Commerce.

ACTION: Notice of extension of time limit for preliminary results of antidumping duty new shipper review.

EFFECTIVE DATE: March 17, 2003.

FOR FURTHER INFORMATION CONTACT: Brian Smith or Davina Hashmi, Import Administration, International Trade Administration, U.S. Department of Commerce, 14th Street and Constitution Avenue, NW., Washington, DC 20230; telephone: (202) 482-1766 or (202) 482-0984, respectively.

SUPPLEMENTARY INFORMATION:

Background

The Department received timely requests from Xiamen Zhongjia Imp. and Exp. Co., Ltd. (“Zhongjia”) and Zhangzhou Longhai Minhui Industry and Trade Co., Ltd. (“Minhui”) in accordance with 19 CFR 351.214(c), for a new shipper review of the antidumping duty order on certain preserved mushrooms from the People's Republic of China (“PRC”), which has a February annual anniversary month and an August semiannual anniversary month. On September 30, 2002, the Department found that the requests for review met all of the regulatory requirements set forth in 19 CFR 351.214(b) and initiated this antidumping duty new shipper review covering the period February 1, 2002, through July 31, 2002 (see Certain Preserved Mushrooms from the People's Republic of China: Initiation of Fifth New Shipper Antidumping Duty Review, 67 FR 62438 (October 7, 2002)). The preliminary results are currently due no later than March 29, 2003.

Extension of Time Limits for Preliminary Results

Pursuant to section 751(a)(2)(B) of the Act, the Department may extend the deadline for completion of the preliminary results of a new shipper review if it determines that the case is extraordinarily complicated. The Department has determined that this case is extraordinarily complicated, and the preliminary results of this new shipper review cannot be completed within the statutory time limit of 180 days. Specifically, each respondent used multiple inputs to produce the subject merchandise and there are multiple stages of production associated with producing the subject merchandise. For purposes of reporting its consumption of each material input, each respondent used a material allocation methodology. Therefore, in order to ensure that each respondent has accurately reported its factors of production, we need more time to obtain additional information on their factors of production and to accommodate verification in this case. In addition, given the complexity (i.e., multiple production stages) involved with producing the subject merchandise and the material allocation issues inherent in this case, the Department finds that this case is extraordinarily complicated, and cannot be completed within the statutory time limit.

Accordingly, the Department is extending the time limit for completion of the preliminary results by 120 days, to July 27, 2003,¹ in accordance with section 751(a)(2)(B)(iv) of the Act and 19 CFR 351.214(i)(2). The final results will in turn be due 90 days after the date of issuance of the preliminary results, unless extended.

¹ Since July 27, 2003, is a Sunday, the preliminary results will actually be due on July 28, 2003.

Dated: March 11, 2003.
Susan H. Kuhbach,
Acting Deputy Assistant Secretary for Import Administration.

[FR Doc. 03-6341 Filed 3-14-03; 8:45 am]

BILLING CODE 3510-DS-P